DEPARTMENT OF COMMERCE

International Trade Administration

(A-570-939)

Certain Tow Behind Lawn Groomers and Certain Parts Thereof From the People's Republic of China: Postponement of Preliminary Determination of Antidumping Duty Investigation

AGENCY: Import Administration, International Trade Administration, Department of Commerce.

EFFECTIVE DATE: November 17, 2008.

FOR FURTHER INFORMATION CONTACT: Thomas Martin or Zev Primor, AD/CVD Operations, Office 4, Import Administration, International Trade Administration, U.S. Department of Commerce, 14th Street and Constitution Avenue, NW, Washington, DC 20230; telephone: (202) 482-3936 or (202) 482-4114, respectively.

SUPPLEMENTARY INFORMATION:

Postponement of Preliminary Determinations

On July 14, 2008, the Department of Commerce (the Department) initiated the antidumping duty investigation on Certain Tow Behind Lawn Groomers and Certain Parts Thereof from the People's Republic of China. See Certain Tow Behind Lawn Groomers and Certain Parts Thereof From the People's Republic of China: Initiation of Antidumping Duty Investigation, 73 FR 42315 (July 21, 2008). The notice of initiation stated that the Department would issue the preliminary determination for this investigation no later than 140 days after the date of issuance of the initiation, in accordance with section 773(b)(1)(A) of the Tariff Act of 1930, as amended (the Act).

On November 5, 2008 the petitioner, Agri-Fab Inc., made a timely request pursuant to 19 CFR 351.205(b)(2) and (e) for a 50-day postponement of the preliminary determination. The petitioner requested postponement of the preliminary determination due to the complexity of the investigation.

For the reasons identified by the petitioner and because there are no compelling reasons to deny the request, the Department is postponing the deadline for the preliminary determination under section 773(c)(1)(A) of the Act by 50 days. Because the extended deadline, January 20, 2009, falls on a federal holiday, the deadline for the preliminary determination will be the next business day, Wednesday, January 21, 2009. See 19 CFR 351.303(b). The deadline for the final determination will continue to be 75 days after the date of the preliminary determination, unless extended.

This notice is issued and published pursuant to section 733(c)(2) of the Act and 19 CFR 351.205(f)(1).

Dated: November 10, 2008.
David M. Spooner,
Assistant Secretary for Import Administration.

[FR Doc. E8-27230 Filed 11-14-08; 8:45 am]

BILLING CODE 3510-DS-S